SOCIAL SECURITY ADMINISTRATION

[Docket No: SSA-2020-0015]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov.

(SSA) Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2020-0015].

I. The information collection below is pending at SSA. SSA will submit it to OMB within 60 days from the date of this notice. To be sure we consider your comments, we must receive them no later than June 8, 2020. Individuals can obtain copies of the collection instrument by writing to the above email address.

Authorization to Obtain Earnings Data From the Social Security Administration—0960-0602. On occasion, public and private organizations and agencies need to obtain detailed earnings information about specific Social Security number (SSN) holding wage earners for business purposes (e.g. pension funds, State agencies, etc.). Respondents use Form SSA-581 to identify the SSN holder whose information they are requesting, and provide authorization from the SSN holder, when applicable. SSA uses the information provided on Form SSA-581 to: (1) Identify the wage earner; (2) establish the period of earnings information requested; (3) verify the wage earner authorized SSA to release this information to the requesting party; and (4) produce the Itemized Statement of Earnings (SSA-1826). The respondents are private businesses, state or local agencies, and other federal agencies. Type of Request: Revision of an OMB-approved information collection.

Modality of completion | Number of respondents | Frequency of response | Average burden per response (minutes) | Estimated total annual burden (hours) | Average theoretical hourly cost amount (dollars) * | Total annual opportunity cost (dollars) **
SSA-581 | 24,000 | 1 | 2 | 800 | * $30.29 | ** $24,232
* We based this figure on average Compensation, Benefits, and Job Analysis Specialists hourly wage data from the BLS website. Since most respondents are from the private sector, and wages for private sector are comparable to those of the state and local governments, we did not differentiate between the two.
** This figure does not represent actual costs that SSA is imposing on recipients of Social Security payments to complete this application; rather, these are theoretical opportunity costs for the additional time respondents will spend to complete the application. There is no actual charge to respondents to complete the application.

II. SSA submitted the information collections below to OMB for clearance. Your comments regarding these information collections would be most useful if OMB and SSA receive them 30 days from the date of this publication. To be sure we consider your comments, we must receive them no later than May 7, 2020. Individuals can obtain copies of the OMB clearance packages by writing to OR.Reports.Clearance@ssa.gov.

1. Request for Corrections of Earnings Record—20 CFR 404.820 and 20 CFR 422.125—0960-0029. Individuals alleging inaccurate earnings records in SSA's files use paper Form SSA-7008, or a personal interview during which SSA employees key their answers into our electronic Earnings Modernization Item Correction system, to provide the information SSA needs to check earnings posted, and, as necessary, initiate development to resolve any inaccuracies. The respondents are individuals who request correction of earnings posted to their Social Security earnings record.

Type of Request: Revision of an OMB-approved information collection.

Modality of completion | Number of respondents | Frequency of response | Average burden per response (minutes) | Estimated total annual burden (hours) | Average theoretical hourly cost amount (dollars) * | Total annual opportunity cost (dollars) ** | Average wait time in field office (minutes) *** | Total annual opportunity cost for wait time (dollars) **
SSA-7008 | 28,734 | 1 | 28 | 13,409 | * $22.50 | ** $301,702 | *** 24 | ** $540
In-person or telephone interview | 337,500 | 1 | 10 | 56,250 | * 22.50 | ** 1,265,625 | *** 24 | ** 540
Totals | 366,234 |  |  | 69,659 |  | ** 1,567,328 |  | ** 1,080
* We based this figure on average U.S. worker's hourly wages, as reported by Bureau of Labor Statistics data.
** This figure does not represent actual costs that SSA is imposing on recipients of Social Security payments to complete this application; rather, these are theoretical opportunity costs for the additional time respondents will spend to complete the application. There is no actual charge to respondents to complete the application.
*** We based this figure on the average FY 2020 wait times for field offices, based on SSA's current management information data.

2. Application for a Social Security Number Card, the Social Security Number Application Process (SSNAP), and internet SSN Replacement Card (iSSNRC) Application—20 CFR 422.103-422.110-0960-0066. SSA collects information on the SS-5 (used in the United States) and SS-5-FS (used outside the United States) to issue original or replacement Social Security cards. SSA also enters the application data into the SSNAP application when issuing a card via telephone or in person. In addition, hospitals collect the same information on SSA's behalf for newborn children through the Enumeration-at-Birth process. In this process, parents of newborns provide hospital birth registration clerks with information required to register these newborns. Hospitals send this information to State Bureaus of Vital Statistics (BVS), and they send the information to SSA's National Computer Center. SSA then uploads the data to the SSA mainframe along with all other enumeration data, and we assign the newborn a Social Security number (SSN) and issue a Social Security card. Respondents can also use these modalities to request a change in their SSN records. In addition, the iSSNRC internet application collects information similar to the paper SS-5 for no-change replacement SSN cards for adult U.S. citizens. The iSSNRC modality allows certain applicants for SSN replacement cards to complete the internet application and submit the required evidence online rather than completing a paper Form SS-5. Finally, the new Online Social Security Number Application Process (oSSNAP) collects information similar to the paper SS-5 for no change, with the exception of name change, replacement SSN cards for U.S Citizens (adult and minor children). oSSNAP will allow certain applicants for SSN replacement cards to start the application process on-line, receive a list of evidentiary documents, and then submit the application data to SSA for further processing by SSA employees. Applicants will need to visit a local SSA office to complete the application process. The respondents for this collection are applicants for original and replacement Social Security cards, or individuals who wish to change information in their SSN records, who use any of the modalities described above.

Type of Request: Revision of an OMB-approved information collection.

Application scenario | Number of respondents | Frequency of response | Average burden per response (minutes) | Estimated total annual burden (hours) | Average theoretical hourly cost amount (dollars) * | Total annual opportunity cost (dollars) ** | Average wait time in field office (minutes) *** | Total annual opportunity cost for wait time (dollars) **
Respondents who do not have to provide parents' SSNs | 7,380,000 | 1 | 8.5 | 1,107,000 | * $22.50 | ** $24,907,500 | *** 24 | ** $540
Adult U.S. Citizens requesting a replacement card with no changes through the iSSNRC modality | 1,350,000 | 1 | 5 | 112,500 | * 22.50 | ** 2,531,250 | *** 24 | ** 540
Adult U.S. Citizens providing information to receive a replacement card through the oSSNAP modality+ | 3,500,000 | 1 | 5 | 291,667 | * 22.50 | ** 6,562,508 | *** 24 | ** 540
Respondents whom we ask to provide parents' SSNs (when applying for original SSN cards for children under age 12) | 190,000 | 1 | 9 | 28,500 | *22.50 | ** 641,250 | *** 24 | ** 540
Applicants age 12 or older who need to answer additional questions so SSA can determine whether we previously assigned an SSN | 910,000 | 1 | 10 | 151,667 | * 22.50 | ** 3,412,508 | *** 24 | ** 540
Applicants asking for a replacement SSN card beyond the allowable limits (i.e., who must provide additional documentation to accompany the application) | 7,250 | 1 | 60 | 7,250 | * 22.50 | ** 163,125 | *** 24 | ** 540
Authorization to SSA to obtain personal information cover letter | 500 | 1 | 15 | 125 | * 22.50 | ** 2,813 | *** 24 | ** 540
Authorization to SSA to obtain personal information follow-up cover letter | 500 | 1 | 15 | 125 | * 22.50 | ** 2,813 | *** 24 | ** 540
Totals | 13,338,250 |  |  | 1,698,834 |  | ** 38,223,767 |  | ** 4,320
* We based this figure on average U.S. worker's hourly wages (based on BLS.gov data).
** This figure does not represent actual costs that SSA is imposing on recipients of Social Security payments to complete this application; rather, these are theoretical opportunity costs for the additional time respondents will spend to complete the application. There is no actual charge to respondents to complete the application.
*** We based this figure on the average FY 2020 wait times for field offices, based on SSA's current management information data.
+ The number of respondents for this modality is an estimate based on google analytics data for the SS-5 form downloads from SSA.Gov.

3. Petition for Authorization to Charge and Collect a Fee for Services Before the Social Security Administration—20 CFR 404.1720-404.1730; 20 CFR 416.1520-416.1530—0960-0104. A Social Security claimant's representative, whether an attorney or a non-attorney, uses Form SSA-1560 to petition SSA for authorization to charge and collect a fee for their services as a representative. In addition, the representatives indicate on the form if they have been disbarred or suspended from a court or bar to which they were previously admitted to practice as an attorney; or if they have been disqualified from appearing before a Federal program or agency. SSA must authorize a fee to the representative, if the representative requests to be paid from the expected past-due benefits of the claimant. The representative submits the SSA-1560 after a claim decision, or any time when the representation is terminated, to request authorization to charge and collect a fee under the fee petition process. Since this information is mandated by regulation, the form is mandatory for the representative to obtain authorization to charge and collect a fee. SSA collects the information on a claim-by-claim basis, if the individual representatives decide to use this option to receive authorization of a fee, and representatives must submit the documentation once per claim. SSA employees then evaluate and process the request for authorization of a fee. The respondents are representatives who use this form to request a fee via the fee petition process.

Type of Request: Revision of an OMB-approved information collection.

Modality of completion | Number of respondents | Frequency of response | Average burden per response (minutes) | Estimated total annual burden (hours) | Average theoretical hourly cost amount (dollars) * | Total annual opportunity cost (dollars) **
SSA-1560 | 24,153 | 1 | 30 | 12,077 | * $72.21 | $** 872,080
* We based this figure on average lawyer's salary (https://www.bls.gov/oes/current/oes231011.htm).
** This figure does not represent actual costs that SSA is imposing on recipients of Social Security payments to complete this application; rather, these are theoretical opportunity costs for the additional time respondents will spend to complete the application. There is no actual charge to respondents to complete the application.

4. Development of Participation in a Vocational Rehabilitation or Similar Program—20 CFR 404.316(c), 404.337(c), 404.352(d), 404.1586(g), 404.1596, 404.1597(a), 404.327, 404.328, 416.1321(d), 416.1331(a)-(b), and 416.1338, 416.1402—0960-0282. State Disability Determination Services (DDS) determine if Social Security disability payment recipients whose disability ceased and who participate in vocational rehabilitation programs may continue to receive disability payments. To do this, DDSs need information about the recipients; the types of program participation; and the services they receive under the rehabilitation program. SSA uses Form SSA-4290 to collect this information. The respondents are State employment networks, vocational rehabilitation agencies, or other providers of educational or job training services.

Type of Request: Revision of an OMB-approved information collection.

Modality of completion | Number of respondents | Frequency of response | Average burden per response (minutes) | Estimated total annual burden (hours) | Average theoretical hourly cost amount (dollars) * | Total annual opportunity cost (dollars) ** | Average wait time in field office (minutes) *** | Total annual opportunity cost for wait time (dollars) **
SSA-4290-F5 | 3,000 | 1 | 15 | 750 | * $17.22 | ** $12,915 | *** 24 | ** $413
* We based this figure on average Social and Human Service Assistant's hourly salary, as reported by Bureau of Labor Statistics data.
** This figure does not represent actual costs that SSA is imposing on recipients of Social Security payments to complete this application; rather, these are theoretical opportunity costs for the additional time respondents will spend to complete the application. There is no actual charge to respondents to complete the application.
*** We based this figure on the average FY 2020 wait times for field offices, based on SSA's current management information data.

Dated: April 1, 2020.
Naomi Sipple,
Reports Clearance Officer,Social Security Administration.

[FR Doc. 2020-07183 Filed 4-6-20; 8:45 am]

BILLING CODE 4191-02-P